SECURITIES AND EXCHANGE COMMISSION

[Release No. 34-79110; File No. SR-CBOE-2016-064]

Self-Regulatory Organizations; Chicago Board Options Exchange, Incorporated; Notice of Withdrawal of Proposed Rule Change Relating to SPX Combo Orders

October 18, 2016.

On September 8, 2016, Chicago Board Options Exchange, Incorporated (“Exchange”) filed with the Securities and Exchange Commission (“Commission”), pursuant to Section 19(b)(1) of the Securities Exchange Act of 1934 (“Act”) ¹ and Rule 19b-4 thereunder,² a proposed rule change to modify the minimum trading increment applicable to SPX Combo Orders. The proposed rule change was published for comment in the Federal Register on September 26, 2016.³ The Commission received no comments regarding the proposal. On October 13, 2016, the Exchange withdrew the proposed rule change.

¹ 15 U.S.C. 78s(b)(1).

² 17 CFR 240.19b-4.

³ See Securities Exchange Act Release No. 78885 (September 20, 2016), 81 FR 66105.

For the Commission, by the Division of Trading and Markets, pursuant to delegated authority.⁴
⁴ 17 CFR 200.30-3(a)(12).
Robert W. Errett,
Deputy Secretary.

[FR Doc. 2016-25574 Filed 10-21-16; 8:45 am]

BILLING CODE 8011-01-P